INTERNATIONAL TRADE COMMISSION

[Investigation Nos. 701-TA-534-537 and 731-TA-1274-1278 (Review)]

Certain Corrosion-Resistant Steel Products From China, India, Italy, South Korea, and Taiwan

Determinations

On the basis of the record ¹ developed in the subject five-year reviews, the United States International Trade Commission (“Commission”) determines, pursuant to the Tariff Act of 1930 (“the Act”), that revocation of the countervailing duty orders on corrosion-resistant steel products from China, India, Italy, and South Korea and the antidumping duty orders on corrosion-resistant steel products from China, India, Italy, South Korea, and Taiwan would be likely to lead to continuation or recurrence of material injury to an industry in the United States within a reasonably foreseeable time.

¹ The record is defined in § 207.2(f) of the Commission's Rules of Practice and Procedure (19 CFR 207.2(f)).

Background

The Commission instituted these reviews on June 1, 2021 (86 FR 29283) and determined on September 7, 2021 that it would conduct full reviews (86 FR 69069, December 6, 2021). Notice of the scheduling of the Commission's reviews and of a public hearing to be held in connection therewith was given by posting copies of the notice in the Office of the Secretary, U.S. International Trade Commission, Washington, DC, and by publishing the notice in the Federal Register on December 13, 2021 (86 FR 70859). The Commission conducted its hearing on May 19, 2022. All persons who requested the opportunity were permitted to participate.

The Commission made these determinations pursuant to section 751(c) of the Act (19 U.S.C. 1675(c)). It completed and filed its determinations in these reviews on August 3, 2022. The views of the Commission are contained in USITC Publication 5337 (August 2022), entitled Certain Corrosion-Resistant Steel Products from China, India, Italy, South Korea, and Taiwan: Investigation Nos. 701-TA-534-537 and 731-TA-1274-1278 (Review).

By order of the Commission.
Issued: August 3, 2022.
Katherine Hiner,
Acting Secretary to the Commission.

[FR Doc. 2022-16971 Filed 8-5-22; 8:45 am]

BILLING CODE 7020-02-P